DEPARTMENT OF ENERGY

Federal Energy Regulatory Commission

[Project No. 2696-033-NY]

Town of Stuyvesant, NY; Albany Engineering Corporation; Notice of Availability of Final Environmental Assessment

In accordance with the National Environmental Policy Act of 1969 and the Federal Energy Regulatory Commission's regulations, 18 CFR Part 380 (Order No. 486, 52 FR 47897), the Office of Energy Projects has reviewed the application for a new license for the 4,320-kilowatt (kW) Stuyvesant Falls Hydroelectric Project located on Kinderhook Creek in Columbia County, New York, and prepared a final Environmental Assessment (final EA). In the final EA, Commission staff analyzes the potential environmental effects of relicensing the project and concludes that issuing a new license for the project, with appropriate environmental measures, would not constitute a major federal action significantly affecting the quality of the human environment.

A copy of the final EA is on file with the Commission and is available for public inspection. The final EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

For further information, contact Andy Bernick at (202) 502-8660.

Dated: December 5, 2012.
Kimberly D. Bose,
Secretary.

[FR Doc. 2012-29846 Filed 12-10-12; 8:45 am]

BILLING CODE 6717-01-P